NATIONAL TRANSPORTATION SAFETY BOARD

SES Performance Review Board

AGENCY: National Transportation Safety Board.

ACTION: Notice.

SUMMARY: Notice is hereby given of the appointment of members of the National Transportation Safety Board, Performance Review Board (PRB).

FOR FURTHER INFORMATION CONTACT: Emily T. Carroll, Chief, Human Resources Division, Office of Administration, National Transportation Safety Board, 490 L'Enfant Plaza SW., Washington, DC 20594-0001, (202) 314-6233.

SUPPLEMENTARY INFORMATION: Section 4314(c)(1) through (5) of Title 5, United States Code requires each agency to establish, in accordance with regulations prescribed by the Office of Personnel Management, one or more SES Performance Review Boards. The board reviews and evaluates the initial appraisal of a senior executive's performance by the supervisor and considers recommendations to the appointing authority regarding the performance of the senior executive.

The following have been designated as members of the Performance Review Board of the National Transportation Safety Board:

The Honorable T. Bella Dinh-Zarr, Vice Chairman, National Transportation Safety Board; PRB Chair.

The Honorable Robert L. Sumwalt, III; Member, National Transportation Safety Board.

Sharon W. Bryson, Director, Office of Safety Recommendations and Communications, National Transportation Safety Board.

Florence A.P. Carr, Director, Bureau of Trade Analysis, Federal Maritime Commission.

John A. Cavolowsky, Director, Airspace Operations and Safety Program, National Aeronautics and Space Administration.

Jerold Gidner, Senior Policy Advisor, Office of Natural Resources Revenue and Tribal Liaison Officer; Office of Policy, Management, and Budget; Department of the Interior (Alternate).

Candi R. Bing,
Federal Register Liaison.

[FR Doc. 2016-23867 Filed 10-3-16; 8:45 am]

BILLING CODE 7533-01-P